DEPARTMENT OF TRANSPORTATION

Office of the Secretary

Senior Executive Service Performance Review Boards Membership

AGENCY: Office of the Secretary, Department of Transportation (DOT).

ACTION: Notice of Performance Review Board (PRB) appointments.

SUMMARY: DOT publishes the names of the persons selected to serve on the various Departmental PRBs as required by 5 U.S.C. 4314(c)(4).

FOR FURTHER INFORMATION CONTACT: Patricia A. Prosperi, Departmental Director, Office of Human Resource Management, (202) 366-4088.

SUPPLEMENTARY INFORMATION: The persons named below have been selected to serve on one or more Departmental PRBs.

Issued in Washington, DC, on June 29, 2004.
Vincent T. Taylor,
Assistant Secretary for Administration.

Federal Railroad Administration

Jane H. Bachner

Deputy Associate Administrator for Industry and Intermodal Policy

Federal Railroad Administration

Mark Yachmetz

Associate Administrator for Railroad Development

Federal Railroad Administration

Margaret Reid

Associate Administrator for Administration and Finance

Federal Railroad Administration

Christopher W. Strobel

Assistant to the Secretary for Policy

Office of the Secretary

Judy Kaleta

Senior Counsel for Dispute Resolution

Office of the Secretary

Delmas Johnson

Associate Administrator for Administration

National Highway Traffic Safety Administration

Jerry Hawkins

Director, Office of Human Resources

Federal Highway Administration

Federal Transit Administration

Patricia G. Smith

Associate Administrator for Commercial Space Transportation

Federal Aviation Administration

Drucella A. Andersen

Deputy Assistant Administrator for Public Affairs

Federal Aviation Administration

Thomas Herlihy

Assistant General Counsel for Legislation

Office of the Secretary

Office of Inspector General

Mark Woods

Assistant Inspector General for Investigations

Department of Agriculture

Anthony Mayo

Assistant Inspector General for Investigations

Department of Commerce

Judith Gordon

Assistant Inspector General for Systems Evaluation

Department of Commerce

Dennis Duquette

Deputy Inspector General for Audit Services

Department of Health and Human Services

Adrienne Rish

Assistant Inspector General for Investigations

Agency for International Development

Joseph R. Willever

Deputy Inspector General

Office of Personnel Management

Elissa Karpf

Assistant Inspector General for Planning, Analysis, & Results

Environmental Protection Agency

Eugene Wesley

Assistant Inspector General for Auditing

General Services Administration

National Highway Traffic Safety Administration

Delmas Johnson

Associate Administrator for Administration

National Highway Traffic Safety Administration

Scott Brenner

Associate Administrator for External Affairs

National Highway Traffic Safety Administration

Susan White

Chief Information Officer

National Highway Traffic Safety Administration

John Hill

Assistant Administrator/Chief Safety Officer

Federal Motor Carrier Safety Administration

George Ostensen

Associate Administrator for Safety

Federal Highway Administration

Federal Highway Administration

Dennis C. Judycki

Associate Administrator for Research, Development, and Technology

Federal Highway Administration

Cynthia Burbank

Associate Administrator for Planning, Environment and Realty

Federal Highway Administration

D.J. Gribbin

Chief Counsel

Federal Highway Administration

Michael J. Vecchietti

Associate Administrator for Administration

Federal Highway Administration

Eileen Roberson

Associate Administrator for Administration

Maritime Administration

Maritime Administration

Robert B. Ostrom

Chief Counsel

Maritime Administration

Eileen Roberson

Associate Administrator for Administration

Maritime Administration

James E. Caponiti

Associate Administrator for National Security

Maritime Administration

Jean E. McKeever

Associate Administrator for Shipbuilding

Maritime Administration

Jerry A. Hawkins

Director, Office of Human Resources

Federal Highway Administration

Office of the Secretary, Bureau of Transportation Statistics

Sean M. Moss

Director, Office of Small and Disadvantaged Business Utilization

Office of the Secretary

William J. Chang

Associate Director for Information Systems

Bureau of Transportation Statistics

Phyllis F. Scheinberg

Deputy Assistant Secretary for Budget and Programs

Office of the Secretary

Paul Gretch

Director, Office of International Aviation

Office of the Secretary

Randall Bennett

Director, Office of Aviation and International Economics

Office of the Secretary

Roberta D. Gabel

Assistant General Counsel for Environmental, Civil Rights, and General Law

Office of the Secretary

Margaret Reid

Associate Administrator for Administration and Finance

Federal Railroad Administration

Delmas Johnson

Associate Administrator for Administration

National Highway Traffic Safety Administration

Jean E. McKeever

Associate Administrator for Shipbuilding

Maritime Administration

Research and Special Programs Administration

Robert McGuire

Associate Administrator for Hazardous Materials Safety

Research and Special Programs Administration

Sean M. Moss

Director, Office of Small and Disadvantaged Business Utilization

Office of the Secretary

Lisa Schlosser

Associate Chief Information Officer

Office of the Secretary

Richard Kowalewski

Deputy Director

Bureau of Transportation Statistics

James J. Zok

Associate Administrator for Ship Analysis and Cargo Preference

Maritime Administration

Jane Bachner

Deputy Associate Administrator for Industry and Intermodal Policy

Federal Railroad Administration

Federal Motor Carrier Safety Administration

Rose McMurray

Associate Administrator for Policy and Program Development

Federal Motor Carrier Safety Administration

Stacy Gerard

Associate Administrator for Pipeline Safety

Research and Special Programs Administration

Linda J. Washington

Deputy Assistant Secretary for Administration

Office of the Secretary

Daniel P. Matthews

Chief Information Officer

Office of the Secretary

Claudio Manno

Director, Emergency Operations and Communications

Federal Aviation Administration

[FR Doc. 04-15246 Filed 7-2-04; 8:45 am]

BILLING CODE 4910-62-P